DEPARTMENT OF DEFENSE

Department of the Army

[USA-2006-0030]

Privacy Act of 1974; System of Records

AGENCY: Department of the Army.

ACTION: Notice to alter a system of records.

SUMMARY: The Department of the Army is proposing to alter a system of records to its existing inventory of records systems subject to the Privacy Act of 1974, (5 U.S.C. 552a), as amended.

DATES: The proposed action will be effective on September 27, 2006 unless comments are received that would result in a contrary determination.

ADDRESSES: Department of the Army, Freedom of Information/Privacy Division, U.S. Army Records Management and Declassification Agency, ATTN: AHRC-PDD-FPZ, 7701 Telegraph Road, Casey Building, Suite 144, Alexandria, VA 22325-3905.

FOR FURTHER INFORMATION CONTACT: Ms. Janice Thornton at (703) 428-6503. 552a), as amended, have been published in the Federal Register and are available from the address above.

The proposed system report, as required by 5 U.S.C. 552a(r) of the Privacy Act of 1974, as amended, was submitted on August 14, 2006, to the House Committee on Government Reform, the Senate Committee on Homeland Security and Governmental Affairs, and the Office of Management and Budget (OMB) pursuant to paragraph 4c of Appendix I to OMB Circular No. A-130, ‘Federal Agency Responsibilities for Maintaining Records About Individuals,' dated February 8, 1996 (February 20, 1996, 61 FR 6427).

Dated: August 21, 2006.
C.R. Choate,
Alternate OSD Federal Register Liaison Officer, Department of Defense.

AAFES 1609.02

System name:

AAFES Customer Service (May 31, 2002, 67 FR 38070).

Changes:

* * * * *

Categories of individuals covered by the system:

Delete entry and replace with “Army and Air Force Exchange Service (AAFES) customers including but not limited to those who make purchases, use the services of the Customer Service Desk, purchase merchandise on a time payment, layaway, or special order basis, or who need purchase adjustments or refunds.”

* * * * *

Authority for maintenance of the system:

After AR 60-10, insert “Army Regulation 60-20, Army and Air Force Exchange Service Operation Policies.”

Purpose(s):

Add at the end of the entry “and, to help detect and prevent criminal activity, and identify potential abuse of exchange privileges.”

* * * * *

AAFES 1609.02

System name:

AAFES Customer Service.

System location:

Headquarters, Army and Air Force Exchange Service, 3911 S. Walton Walker Boulevard, Dallas, TX 75236-1598; Army and Air Force Exchange Service-Europe Region, Building 4001, In der Witz 14-18, 55252 Mainz-Kastel, Germany, APO 09251-4580; and Exchange Regions and Area Exchanges at posts, bases, and satellites world-wide. Official mailing addresses are published as an appendix to the Army's compilation of systems of records notices.

Categories of individuals covered by the system:

Army and Air Force Exchange Service (AAFES) customers including but not limited to those who make purchases, use the services of the Customer Service Desk, purchase merchandise on a time payment, layaway, or special order basis, or who need purchase adjustments or refunds.

Categories of records in the system:

Individual's name, address, and Social Security Number, copies of layaway tickets, requests for refunds, special order forms/procurement request/logs, cash receipt/charge or credit vouchers, rebate coupons, register transaction journal/log, repair vouchers, warranty documents, shipping/delivery information, correspondence between AAFES and the customer and/or vendor.

Authority for maintenance of the system:

10 U.S.C. 3013, Secretary of the Army; 10 U.S.C. 8013, Secretary of the Air Force; Army Regulation 25-1, Morale, Welfare, and Recreation Activities and Non-Appropriated Fund Instrumentalities; Army Regulation 60-10, Army and Air Force Exchange Service General Policies; Army Regulation 60-20, Army and Air Force Exchange Service Operation Policies; and E.O. 9397 (SSN).

Purpose(s):

To record customer transactions/payment for layaway and special orders; to determine payment status before finalizing transactions; to identify account delinquencies and prepare customer reminder notices; to mail refunds on canceled layaway or special orders; to process purchase refunds; to document receipt from customer of merchandise subsequently returned to vendors for repair or replacement, shipping/delivery information, and initiate follow-up actions; to monitor individual customer refunds; to perform market basket analysis; to improve efficiency of marketing system(s); and, to help detect and prevent criminal activity, and identify potential abuse of exchange privileges.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices apply to this system.

Disclosure to consumer reporting agencies:

Disclosures pursuant to 5 U.S.C. 552a(b)(12) may be made from this system to ‘consumer reporting agencies’ as defined in the Fair Credit Reporting Act (15 U.S.C. 1681a(f)) or the Federal Claims Collection Act of 1966 (31 U.S.C. 3701(a)(3)). The purpose of this disclosure is to aid in the collection of outstanding debts owed to the Federal government; typically to provide an incentive for debtors to repay delinquent Federal government debts by making these debts part of their credit records.

Disclosure of records is limited to the individual's name, address, Social Security Number, and other information necessary to establish the individual's identity; the amount, status, and history of the claim; and the agency program under which the claim arose. This disclosure will be made only after the procedural requirement of 31 U.S.C. 3711(f) has been followed.

Policies and practices for storing, retrieving, accessing, retaining, and disposing of records in the system;

Storage:

Paper in file folders and on electric storage media.

Retrievability:

By customer's surname, Social Security Number, document control number, and/or due date.

Safeguards:

Records are maintained in secured areas, accessible only to authorized personnel having need for the information in the performance of their duties.

Retention and disposal:

Cancelled or completed layaway tickets are held for 6 months after cancellation or delivery of merchandise; purchase orders are retained for 2 years; transaction records are retained for 2 years; refund vouchers are retained for 6 years; returned merchandise slips are retained for 6 years; cash receipt vouchers are retained for 3 years; repair/replacement order slips are held 2 years. All records are destroyed by shredding, all electronic records are destroyed by erasing/reformatting the media.

System manager(s) and address:

Commander, Army and Air Force Exchange Service, 3911 S. Walton Walker Boulevard, Dallas, TX 75236-1598.

Notification procedure:

Individuals seeking to determine whether information about themselves is contained in this system should address written inquiries to the Commander, Army and Air Force Exchange Service, ATTN: SD, 3911 S. Walton Walker Boulevard, Dallas, TX 75236-1598.

Individual should provide name and sufficient details of purchaser to enable locating pertinent records, current address and telephone number.

Record access procedures:

Individuals seeking access to information about themselves contained in this system should address written inquiries to the Commander, Army and Air Force Exchange Service, ATTN: SD, 3911 S. Walton Walker Boulevard, Dallas, TX 75236-1598.

Individual should provide name and sufficient details of purchase to enable locating pertinent records, current address and telephone number.

Contesting record procedures:

The Army's rules for accessing records and for contesting contents and appealing initial agency determinations are contained in Army Regulation 340-21; CFR part 505; or may be obtained from the system manager.

Record source categories:

From the individual and/or vendor.

Exemptions claimed for the system:

None.

[FR Doc. 06-7184 Filed 8-25-06; 8:45 am]

BILLING CODE 5001-06-M